DEPARTMENT OF THE INTERIOR

National Park Service

Dream Lake Dam Management Plan; Lassen Volcanic National Park, Plumas County, California; Notice of Intent to Prepare an Environmental Impact Statement

SUMMARY: Pursuant to § 102(2)(c) of the National Environmental Policy Act of 1969 (Pub. L. 91-190) and Council on Environmental Quality regulations (40 CFR 1502.9(c)), the National Park Service intends to prepare an Environmental Impact Statement for a Management Plan for the Dream Lake Dam in the Warner Valley area of Lassen Volcanic National Park. Notice is hereby given that a public scoping process has been initiated with the purpose of eliciting public comment regarding current issues and concerns, a suitable range of alternatives, the nature and extent of potential environmental impacts, appropriate mitigating measures, and other matters that should be addressed in the forthcoming draft Environmental Impact Statement (EIS).

Background: Dream Lake Dam was built by Alex Sifford in 1932, prior to the National Park Service (NPS) acquiring the land on which the lake sits. The lake was built by Sifford to provide scenic benefits and recreational opportunities to guests at the nearby Drakesbad Guest Ranch, which Sifford owned. Drakesbad Guest Ranch is over 100 years old and is still in operation to this day. It is owned by the National Park Service and is located within the boundaries of Lassen Volcanic National Park. Drakesbad is operated by the Park's concessioner, California Guest Services. Drakesbad, with nearby Dream Lake, is a popular destination and has been visited by many generations of families. Dream Lake is a contributing feature to the cultural landscape of Drakesbad Guest Ranch, which has been nominated for placement on the National Register of Historic Places.

Dream Lake Dam is an earthfill embankment that forms a lake with a surface area of approximately 2 acres, containing approximately 11 acre-feet of water. The dam was examined by the Bureau of Reclamation (BOR) on July 21, 1999 and found to have numerous deficiencies including sloughing, sinkholes, settlements, and seepage. The BOR states in its November 6, 2000 Condition Survey Report that “the seepage and sinkholes could endanger the stability of the dam, and should be investigated and necessary corrective action should be performed * * *” The BOR, in its Downstream Hazard Classification stated that “without maintenance the failure of the dam in the next few years is likely.” The BOR went on the make a recommendation that one of two alternatives be implemented. Those alternatives included: (1) repairing the dam and/or lowering and widening the spillway or (2) in a planned and controlled manner, breach the dam so that no water is stored in the lake and the area reverts back to pre-lake conditions.

Lassen Volcanic National Park will be preparing a draft EIS because of the conflict between natural and cultural resource management issues in determining the future of Dream Lake Dam. The park currently does not have a preferred alternative. The park is looking for public input as to what alternatives, in addition to those recommended by the BOR, should be examined. In order to move forward with a decision regarding the future management of Dream Lake Dam, a plan must first be developed and that plan will be fully scoped for public input and comment and it will contain a full environmental impact analysis for all of the viable alternatives.

As a key step in the overall conservation planning and environmental impact analysis process, the NPS is seeking public comments and relevant information to guide the preparation of the Draft EIS. The objectives of this public scoping effort are to:

Inform all interested parties of the scope of the problem and the need to find a solution;

Identify a preliminary range of management alternatives that may include those posted by the BOR;

Identify substantive environmental and cultural issues which warrant detailed environmental impact analysis, and identify any issues or topics which may not require analysis;

Identify potential environmental and cultural consequences and suitable mitigation strategies.

Comment Process: The public will be invited to participate from the outset of the scoping process through completion of the draft and final EIS. The initial scoping period has already begun and public meetings have been held in order to: (1) Present information developed to date, (2) answer questions about the planning process, and (3) solicit and accept comments from the public. To initiate this collaboration, four scoping meeting were held during the month of November, 2002 as follows: November 4 (Chico), November 5 (Red Bluff), November 6 (Redding), and November 7 (Chester). The exact locations and times of the meetings were announced via regional and local news media, direct mailings, and on the Park's webpage at http://www.nps.gov/lavo. All interested individuals, organizations, and agencies were invited to attend these meetings and/or provide written comments or suggestions during the scoping period.

While the public meetings have already been held, the scoping period remains open. All scoping comments should be submitted in writing, and must be postmarked or transmitted no later than 30 days from the date of publication of this notice in the Federal Register (as soon as this date has been determined, it will be announced on the park's website). Please send all comments to: Superintendent, Lassen Volcanic National Park, PO Box 100, Mineral, CA 96063 (Attn: Dream Lake Dam Management Plan). Electronic comments may be transmitted to LAVO_DreamLake@nps.gov.

All parties wishing to express concerns, ideas, support, or provide information about management issues which should be addressed in the forthcoming conservation planning and environmental impact analysis process are strongly encouraged to submit written comments. All comments will become part of the public record. If individuals who submit comments request that their name and/or address be withheld from public disclosure, the request will be honored to the extent allowable by law. Such requests must be stated prominently in the beginning of the comments. There also may be circumstances wherein the NPS will withhold a respondent's identity as allowable by law. As always, the NPS will make available to public inspection all submission from organizations or businesses and from persons identifying themselves as representatives or officials of organizations and businesses. Anonymous comments may not be considered.

Decision Process: Availability of the Draft EIS for review and comment will be announced by formal Notice in the Federal Register, through local and regional news media, the Park's Webpage (listed above), and direct mailing. At this time, the Draft EIS is anticipated to be available for public review and comment in the Fall of 2003. Comments on the Draft EIS will be fully considered as an aid in preparing a Final EIS as appropriate. At this time, it is anticipated that the Final EIS will be completed in the spring of 204. As a delegated EIS, the official responsible for the decision is the Regional Director, Pacific West Region; subsequently the official responsible for implementation is the Superintendent, Lassen Volcanic National Park.

Dated: March 7, 2003.
Patricia L. Neubacher,
Acting Regional Director, Pacific West Region.

[FR Doc. 03-8189 Filed 4-3-03; 8:45 am]

BILLING CODE 4310-70-M